ENVIRONMENTAL PROTECTION AGENCY

[EPA-HQ-OPP-2007-0005; FRL-8121-1]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations and providing a public comment period.

DATES: Unless a request is withdrawn by October 10, 2007 or May 14, 2007 for registrations for which the registrant requested a waiver of the 180-day comment period, orders will be issued canceling these registrations. The Agency will consider withdrawal requests postmarked no later than October 10, 2007 or May 14, 2007, whichever is applicable. Comments must be received on or before October 10, 2007 or May 14, 2007, for those registrations where the 180-day comment period has been waived.

ADDRESSES: Submit your comments and your withdrawal request, identified by docket identification (ID) number EPA-HQ-OPP-2007-0005, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written withdrawal requests should be to the Attention of: John Jamula, Information Technology and Resources Management Division (7502P), at the address above.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2007-0005. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 72 pesticide products registered under section 3 or 24(c) of FIFRA. These registrations are listed in sequence by registration number (or company number and 24(c) number) in the following Table 1:

Table 1.—Registrations With Pending Requests for Cancellation
Registration no. | Product Name | Chemical Name
000100 AL-03-0004 | Tilt Fungicide | Propiconazole
000100 AL-04-0002 | Quilt Fungicide | Propiconazole
|  | Azoxystrobin
000100 CA-96-0012 | Mefenoxam EC | D-Alanine, N-(2,6-dimethylphenyl)-N-(methoxyacetyl)-, methyl ester
000100 CO-02-0005 | Actara | Thiamethoxam
000100 ID-02-0004 | Actara | Thiamethoxam
000100 ID-05-0007 | Quilt Fungicide | Propiconazole
|  | Azoxystrobin
000100 ID-95-0012 | Tilt Fungicide | Propiconazole
000100 ID-98-0004 | Tilt Fungicide | Propiconazole
000100 IN-98-0003 | Tilt Fungicide | Propiconazole
000100 MI-03-0005 | Dual Magnum Herbicide | S-Metolachlor
000100 MI-04-0007 | Dual Magnum Herbicide | S-Metolachlor
000100 OK-04-0001 | Quilt Fungicide | Propiconazole
|  | Azoxystrobin
000100 TX-06-0019 | Envoke Herbicide | 2-Pyridinesulfonamide, N-[[(4,6-dimethoxy-2-pyrimidinyl)amino]carbonyl]-3-(2,2,2-trifluoroet
000100 WA-01-0030 | Actara 25 WG | Thiamethoxam
000100 WA-04-0026 | Quilt Fungicide | Propiconazole
|  | Azoxystrobin
000100 WA-95-0033 | Tilt Fungicide | Propiconazole
000100 WA-98-0018 | Tilt Fungicide | Propiconazole
000239-02342 | Weed Killer M | 2,4-D, dimethylamine salt
|  | Mecoprop, dimethylamine salt
000239-02485 | Weed-B-Gon Intermediate | 2,4-D, dimethylamine salt
|  | Mecoprop, dimethylamine salt
000239-02581 | Weed-B-Gon Ready Spray Lawn Weed Killer | 2,4-D, dimethylamine salt
|  | Mecoprop, dimethylamine salt
000239-02621 | Weed-B-Gon Lawn Weed Killer Formula T | Benzoic acid, 3,6-dichloro-2-methoxy-, compd with N-methylmethanamine (1:1)
|  | MCPA, dimethylamine salt
|  | Mecoprop, dimethylamine salt
000239-02623 | Triamine Jet Weeder | 2,4-D, dimethylamine salt
|  | Dimethylamine 2-(2,4-dichlorophenoxy)propionate
|  | Mecoprop, dimethylamine salt
000239-02634 | Weed-B-Gon Weed Killer Formula II | Benzoic acid, 3,6-dichloro-2-methoxy-, compd with N-methylmethanamine (1:1)
|  | MCPA, dimethylamine salt
|  | Mecoprop, dimethylamine salt
000241 WA-92-0015 | Prowl 3.3 EC Herbicide | Pendimethalin
000241 WA-96-0019 | Prowl 3.3 EC Herbicide | Pendimethalin
000241 WA-96-0020 | Avenge Wild Oat Herbicide | Difenzoquat methyl sulfate
000241 WA-96-0021 | Assert Herbicide | Imazamethabenz
000264 WA-90-0009 | Gustafson LSP Flowable Fungicide | Thiabendazole
000400-00049 | Alanap-L | Naptalam, sodium salt
000400-00155 | Harvade-5F | Dimethipin
000400-00398 | Harvade-25F | Dimethipin
000400-00432 | Harvade Technical | Dimethipin
000400-00505 | Leafless | Dimethipin
|  | Thidiazuron
000432-01288 | Baygon Technical | Propoxur
000464-00709 | Ucarcide 115 Antimicrobial | Glutaraldehyde
000769-00638 | Smcp Granular Dy-Kil-20 Non-Selective Weed & Grass Kill | Diuron
000875-00090 | Per-Vad Low Foam Liquid Acid Sanitizer | Phosphoric acid
|  | Sulfonated oleic acid, sodium salt
001381-00089 | Midland Hy Py Fogging Stock Spray | Piperonyl butoxide
|  | Pyrethrins
005481-00009 | Alco Fly Fighter Double Strength Fly Bait | Dichlorvos
005481-00341 | Alco Flea Collar for Dogs-Black. | Dichlorvos
005481-00342 | Alco Flea Collar for Cats - White | Dichlorvos
005481-00343 | Alco Flea Collar for Dogs - Clear | Dichlorvos
005481-00345 | Alco Flea Collar for Cats-Clear. | Dichlorvos
005481-00346 | Alco Flea Collar for Dogs - Glitters | Dichlorvos
005481-00347 | Alco Flea Collar for Cats-Glitters. | Dichlorvos
005905-00523 | Propanil 60D | Propanil
010163 OR-99-0056 | Botran 75 W-Fungicide | Dicloran
010163 WA-95-0015 | Imidan 70-WP Agricultural Insecticide | Phosmet
011603-00028 | Bromacil Technical | Bromacil
019713 OR-90-0023 | Drexel Diuron 4l Herbicide | Diuron
034913-00017 | Knockout Granular Weed Killer | Diuron
|  | Sulfometuron
035935-00032 | Clopyralid Technical | Clopyralid
055260 OR-04-0025 | Syllit Flow Fungicide | Dodine
056228-00008 | Pigeon Bait Strychnine Corn | Strychnine
056228-00027 | 1.6% Strychnine Paste | Strychnine
059639 WA-01-0006 | Cobra Herbicide | Lactofen
061282 OR-01-0018 | Hopkins Zinc Phosphide Pellets | Zinc phosphide (Zn3P2)
061483-00092 | Patriot Plus Insecticide Ear Tag | Diazinon
|  | Tetrachlorvinphos
062719-00096 | Balan 2.5G | Benfluralin
062719-00127 | Balan Dry Flowable | Benfluralin
062719-00146 | Turf Fertilizer contains Balan 0.92% | Benfluralin
062719-00147 | Turf Fertilizer contains Balan 1.15% | Benfluralin
062719-00148 | Turf Fertilizer contains Balan 1.25% | Benfluralin
062719 AZ-00-0001 | Goal 2XL Herbicide | Oxyfluorfen
062719 OR-94-0035 | Lorsban 4E-HF | Chlorpyrifos
066222 AZ-02-0009 | Thiodan 3 EC Insecticide | Endosulfan
066222 WA-05-0003 | Rimon 0.83 EC | Novaluron
066330-00217 | Dicofol 4 EC | Dicofol
068098 WA-98-0014 | Mycoshield Brand of Agricultural Terramycin | Calcium oxytetracycline
070627-00039 | Johnson Wax Professional Contact Insecticide | d-trans-Chrysanthemum monocarboxylic ester of dl-2-allyl-4-hydroxy-3-methyl-2-cyclopenten-1-
|  | 4,7-Methano-1H-isoindole-1,3(2H)-dione, 2-(2-ethylhexyl)-3a,4,7,7a-tetrahydro-
|  | Piperonyl butoxide
|  | Pyrethrins
071579 WA-98-0008 | Harvade-5f | Dimethipin
072106-00002 | Evergreen Lawn Food with Weed Control 12-4-4 | 2,4-D, dimethylamine salt

A request to waive the 180-day comment period has been received for the following registrations: 432-1288; 769-638; 5481-9; 5481-341; 5481-342; 5481-343; 5481-345 5481-346; 5481-347. Therefore, the 30-day comment period will apply for these registrations.

Unless a request is withdrawn by the registrant by October 10, 2007 or by May 14, 2007 for those registrations with a 30-day comment period, orders will be issued canceling all of these registrations. A person may submit comments to EPA as provided in ADDRESSES and Unit I. of the SUPPLEMENTARY INFORMATION above. However, because FIFRA section 6(f)(1)(A) allows a registrant to request cancellation of its pesticide registrations at any time, users or anyone else desiring retention of those pesticides listed in Table 1 may want to contact the applicable registrant in Table 2 directly during this period to request that the registrant retain the pesticide registration or to discuss the possibility of transferring the registration. A user seeking to apply for its own registration of that pesticide may submit comments requesting EPA not to cancel a registration until its “me-too” registration is granted.

Table 2 of this unit includes the names and ADDRESSES of record for all registrants of the products in Table 1 of this unit, in sequence by EPA company number:

Table 2.—Registrants Requesting Voluntary Cancellation
EPA Company No. | Company Name and Address
000100 | Syngenta Crop Protection, Inc., Attn: Regulatory Affairs, Po Box 18300, Greensboro, NC 274198300
000239 | The Ortho Business Group, d/b/a The Scotts Co., Po Box 190, Marysville, OH 43040
000241 | BASF Corp., Po Box 13528, Research Triangle Park, NC 277093528
000264 | Bayer Cropscience LP, 2 T.W. Alexander Drive, Research Triangle Park, NC 27709
000400 | Chemtura USA Corp., 199 Benson Rd. (2-4), Middlebury, CT 06749
000432 | Bayer Environmental Science, A Business Group of Bayer Cropscience LP, Po Box 12014, Research Triangle Park, NC 27709
000464 | Dow Chemical Co., The, Attn: George Paul, 1803 Building, Midland, MI 48674
000769 | Value Gardens Supply, LLC, d/b/a Value Garden Supply, Po Box 585, Saint Joseph, MO 64502
000875 | Johnsondiversey, Inc., 8310 16th Street, Sturtevant, WI 53177
001381 | Agriliance, LLC, Po Box 64089, St. Paul, MN 551640089
005481 | Amvac Chemical Corp., Attn: Jon C. Wood, 4695 Macarthur Ct., Suite 1250, Newport Beach, CA 926601706
005905 | Helena Chemical Co., 225 Schilling Blvd., Suite 300, Collierville, TN 38017
010163 | Gowan Co, Po Box 5569, Yuma, AZ 853665569
011603 | Makhteshim-Agan of North America Inc., Agent For: Agan Chem Mfg, Ltd, 4515 Falls of Neuse Rd Ste 300, Raleigh, NC 27609
019713 | Drexel Chemical Co., Po Box 13327, Memphis, TN 381130327
034913 | SSI Maxim Co., Inc., PO Box 1954, Kilgore, TX 75663
035935 | Nufarm Limited, Agent For: Nufarm Limited, PO Box 13439, Rtp, NC 27709
055260 | Ceres International LLC, Agent For: Agriphar S.A., 1087 Heartsease Drive, West Chester, PA 19382
056228 | U.S. Department of Agriculture, Animal and Plant Health Inspection Service, 4700 River Rd, Unit 149, Riverdale, MD 20737
059639 | Valent U.S.A. Corp., PO Box 8025, Walnut Creek, CA 94596
061282 | Hacco, Inc., 110 Hopkins Drive, Randolph, WI 539561316
061483 | KMG-Bernuth, Inc., PO Box 80, Ellwood, KS 66024
062719 | Dow Agrosciences LLC, 9330 Zionsville Rd 308/2E, Indianapolis, IN 462681054
066222 | Makhteshim-Agan of North America Inc., 4515 Falls of Neuse Rd Ste 300, Raleigh, NC 27609
066330 | Arysta Lifescience North America Corp., 15401 Weston Parkway, Suite 150, Cary, NC 27513
068098 | Mt. Adams Orchard Corp., PO Box 1588, Yakima, WA 98907
070627 | Johnsondiversey, Inc., PO Box 902, Sturtevant, WI 53177
071579 | Association of Basin Nurseries, PO Box 1339, Wenatchee, WA 98807
072106 | Waupaca Northwoods LLC, d/b/a Waupaca Materials, Po Box 569, Waupaca, WI 54981

III. What is the Agency's Authority for Taking this Action?

Section 6(f)(1)(A) of FIFRA provides that a registrant of a pesticide product may at any time request that any of its pesticide registrations be canceled. FIFRA further provides that, before acting on the request, EPA must publish a notice of receipt of any such request in the Federal Register and provide for a 30-day public comment period. In addition, where a pesticide is registered for a minor agricultural use and the Administrator determines that cancellation or termination of that use would adversely affect the availability of the pesticide for use, FIFRA section 6(f)(1)(C) requires EPA to provide a 180-day period before approving or rejecting the section 6(f) request unless:

1. The registrant requests a waiver of the 180-day period, or

2. The Administrator determines that continued use of the pesticide would pose an unreasonable adverse effect on the environment.

IV. Procedures for Withdrawal of Request

Registrants who choose to withdraw a request for cancellation must submit such withdrawal in writing to the person listed under FOR FURTHER INFORMATION CONTACT, postmarked before October 10, 2007 or before May 14, 2007 for those registrations where the 180-day comment period has been waived. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: April 3, 2007.
Robert Forrest,
Acting Director, Information Technology and Resources Management Division, Office of Pesticide Programs.

[FR Doc. E7-7019 Filed 4-12-07; 8:45 am]

BILLING CODE 6560-50-S